NUCLEAR REGULATORY COMMISSION

Advisory Committee on Reactor Safeguards

Subcommittee Meeting on Thermal-Hydraulic Phenomena; Notice of Meeting

The ACRS Subcommittee on Thermal-Hydraulic Phenomena will hold a meeting on January 14-15, 2004, Room T-2B3, 11545 Rockville Pike, Rockville, Maryland.

Portions of the meeting may be closed to public attendance to discuss General Electric (GE) proprietary information per 5 U.S.C. 552b(c)(4).

The agenda for the subject meeting shall be as follows:

Wednesday and Thursday, January 14-15, 2004—8:30 a.m. until the conclusion of business.

The Subcommittee will review the staff draft SER on the use of the TRAC-G computer code to perform analyses of the Economic Simplified Boiling Water Reactor (ESBWR). The Subcommittee will hear presentations by and hold discussions with representatives of General Electric and the NRC staff regarding this matter. The Subcommittee will gather information, analyze relevant issues and facts, and formulate proposed positions and actions, as appropriate, for deliberation by the full Committee.

Members of the public desiring to provide oral statements and/or written comments should notify the Designated Federal Official, Mr. Ralph Caruso (Telephone: 301-415-1813) five days prior to the meeting, if possible, so that appropriate arrangements can be made. Electronic recordings will be permitted only during those portions of the meeting that are open to the public.

Further information regarding this meeting can be obtained by contacting the Designated Federal Official between 7:30 a.m. and 4:15 p.m. (e.t.). Persons planning to attend this meeting are urged to contact the above named individual at least two working days prior to the meeting to be advised of any potential changes to the agenda.

Dated: December 15, 2003.
Howard J. Larson,
Acting Associate Director for Technical Support, ACRS/ACNW.

[FR Doc. 03-31421 Filed 12-19-03; 8:45 am]

BILLING CODE 7590-01-P